DEPARTMENT OF ENERGY

Federal Energy Regulatory Commission

[Project No. 13710-000]

Lock+ Hydro Friends Fund VIII; Notice of Preliminary Permit Application Accepted for Filing and Soliciting Comments, Motions To Intervene, and Competing Applications

May 11, 2010.

On April 13, 2010 Lock+ Hydro Friends Fund VIII filed an application for a preliminary permit, pursuant to section 4(f) of the Federal Power Act, proposing to study the feasibility of the Domage Project, located on the Mississippi River, in Lincoln County, Missouri and Calhoun County, Illinois. The sole purpose of a preliminary permit, if issued, is to grant the permit holder priority to file a license application during the permit term. A preliminary permit does not authorize the permit holder to perform any land-disturbing activities or otherwise enter upon lands or waters owned by others without the owners' express permission.

The proposed project would consist of: (1) One lock frame module of ten hydropower turbines, which will be installed in a single row; (2) a new gate; (3) a proposed 4.5-mile-long, 69-kilovolt transmission line; (4) flow control door assemblies; and (5) appurtenant facilities. The proposed Domage Project would have an average annual generation of 52.705 gigawatt-hours.

Applicant Contact: Wayne F. Krouse, Chairman & CEO, Hydro Green Energy, LLC, 5090 Richmond Ave., #390, Houston, Texas, 77056.

FERC Contact: Bryan Roden-Reynolds at (202) 502-6618, or via e-mail at bryan.roden-reynolds@ferc.gov.

The deadline for filing comments, motions to intervene, competing applications (without notices of intent), or notices of intent to file competing applications is 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp), under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies of the correspondence to: Kimberly D. Bose, Secretary, Federal Energy Regulatory Commission, 888 First Street, NE., Washington, DC 20426.

More information about this project, including a copy of the application, can be viewed or printed on the Commission's “eLibrary” link at http://www.ferc.gov/docs-filing/elibrary.asp. Enter the docket number (P-13710) in the docket number field to access the document. For assistance, contact FERC Online Support.

Kimberly D. Bose,
Secretary.

[FR Doc. 2010-11789 Filed 5-17-10; 8:45 am]

BILLING CODE 6717-01-P